DEFENSE NUCLEAR FACILITIES SAFETY BOARD

Notice of Designation of Policy-Making Positions; Withdrawal

AGENCY: Defense Nuclear Facilities Safety Board.

ACTION: Notice; withdrawal.

SUMMARY: The Defense Nuclear Facilities Safety Board (DNFSB) is announcing the withdrawal of a notice that was published in the Federal Register of April 24, 2025.

DATES: The notice published on April 24, 2025, at 90 FR 17248, is withdrawn as of April 28, 2025.

ADDRESSES: 625 Indiana Ave. NW, Washington, DC 20004.

FOR FURTHER INFORMATION CONTACT: Joseph Gilman, Office of General Counsel, 625 Indiana Ave. NW, Washington, DC 20004, (202) 694-7000.

SUPPLEMENTARY INFORMATION: In a notice published in the Federal Register of April 24, 2025, at 90 FR 17248, “Notice of determination of policy-making positions”, the DNFSB announced its determination that the Deputy General Counsel position is of a policy-determining and policy-advocating character and is not normally subject to change as a result of a Presidential transition. Accordingly, the notice further announced that the position is designated as a Schedule Policy/Career position.

The Federal Register notice announcing this determination and designation is withdrawn. No positions have been designated as Schedule Policy/Career.

Dated: April 25, 2025.
On behalf of the Board.
Thomas A. Summers,
Acting Chairman, Defense Nuclear Facilities Safety Board.

[FR Doc. 2025-07532 Filed 4-30-25; 8:45 am]

BILLING CODE 3670-01-P